DEPARTMENT OF TRANSPORTATION

Federal Aviation Administration

14 CFR Part 39

[Docket No. FAA-2009-0633; Directorate Identifier 2009-CE-037-AD; Amendment 39-15964; AD 2009-15-01]

RIN 2120-AA64

Airworthiness Directives; Hawker Beechcraft Corporation (Type Certificate Previously Held by Raytheon Aircraft Company) Model G36 Airplanes

AGENCY: Federal Aviation Administration (FAA), DOT.

ACTION: Final rule; request for comments.

SUMMARY: We are adopting a new airworthiness directive (AD) for certain Hawker Beechcraft Corporation (Type Certificate previously held by Raytheon Aircraft Company) Model G36 airplanes. This AD requires you to inspect for any improper installation and/or chafing of the P60/J60 electrical connector, associated wiring, and fuel line and, if found, correct the installation and replace damaged parts. This AD results from reports of chafing between the wire harness/connector(s) and fuel line. We are issuing this AD to detect and correct chafing between the wire harness/connector(s) and fuel line. This chafing could lead to fuel leaking into the cockpit and fire in the cockpit if wiring arcs through the fuel line.

DATES: This AD becomes effective on July 27, 2009.

On July 27, 2009, the Director of the Federal Register approved the incorporation by reference of certain publications listed in this AD.

We must receive any comments on this AD by September 14, 2009.

ADDRESSES: Use one of the following addresses to comment on this AD.

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

To get the service information identified in this AD, contact Hawker Beechcraft Corporation, Attn: Piston Technical Support, P.O. Box 85, Wichita, Kansas 67201; telephone: (800) 429-5372; fax: (316) 676-8745; E-mail: tmdc@hawkerbeechcraft.com; Internet: http://www.hawkerbeechcraft.com.

To view the comments to this AD, go to http://www.regulations.gov. The docket number is FAA-2009-0633; Directorate Identifier 2009-CE-037-AD.

FOR FURTHER INFORMATION CONTACT: Jeff Pretz, Aerospace Engineer, 1801 Airport Road, Room 100, Wichita, Kansas 67209; telephone: (316) 946-4153; fax: (316) 946-4107.

SUPPLEMENTARY INFORMATION:

Discussion

We received reports of chafing between the fuel line and the P60/J60 connector and wiring. One report indicated arcing from a chafing wire harness burned a hole through the fuel tube. Another report resulted from an inspection finding where the P60/J60 connector directly contacted the fuel line.

During the manufacturing of fuel line part number (P/N) 36-920001-13, protective insulation tube P/N 106242-6-01300, or other post-manufacturing spiral wrap was not installed or was located improperly, thereby allowing chafing electrical wire/connectors to directly contact the fuel line.

This condition, if not corrected, could result in chafing between the wire harness/connector(s) and fuel line. This chafing could lead to fuel leaking into the cockpit and fire in the cockpit if wiring arcs through the fuel line.

Relevant Service Information

We reviewed Hawker Beechcraft Mandatory Service Bulletin SB 28-3967, dated June 2009. The service information describes procedures for inspecting for any improper installation and/or chafing of the P60/J60 electrical connector, associated wiring, and fuel line and, if found, correcting the installation and replacing damaged parts.

FAA's Determination and Requirements of This AD

We are issuing this AD because we evaluated all the information and determined the unsafe condition described previously is likely to exist or develop on other products of the same type design. This AD requires you to inspect for any improper installation and/or chafing of the P60/J60 electrical connector, associated wiring, and fuel line and, if found, correct the installation and replace damaged parts.

FAA's Determination of the Effective Date

An unsafe condition exists that requires the immediate adoption of this AD. The FAA has found that the risk to the flying public justifies waiving notice and comment prior to adoption of this rule because chafing between the wire harness/connector(s) and fuel line could lead to fuel leaking into the cockpit and fire in the cockpit if wiring arcs through the fuel line. Therefore, we determined that notice and opportunity for public comment before issuing this AD are impracticable and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2009-0633; Directorate Identifier 2009-CE-037-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44-FR-11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2009-15-01 Hawker Beechcraft Corporation (Type Certificate previously held by Raytheon Aircraft Company): Amendment 39-15964; Docket No. FAA-2009-0633; Directorate Identifier 2009-CE-037-AD.

Effective Date

(a) This AD becomes effective on July 27, 2009.

Affected ADs

(b) None.

Applicability

(c) This AD applies to Model G36 airplanes, serial numbers E-3630, E-3636 through E-3817, E-3819 through E-3834, E-3836 through E-3887, E-3889 through E-3896, E-3898, and E-3899, that are certificated in any category.

Unsafe Condition

(d) This AD results from reports of chafing between the wire harness/connector(s) and fuel line. We are issuing this AD to detect and correct improper installation and/or chafing between the wire harness/connector(s) and fuel line. This chafing could lead to fuel leaking into the cockpit and fire in the cockpit if wiring arcs through the fuel line.

Compliance

(e) To address this problem, you must do the following, unless already done:

Actions | Compliance | Procedures
(1) Inspect for improper installation of the P60/J60 electrical connector, associated wiring, and fuel line. Also inspect for any chafing damage of the electrical wiring and fuel line | Within 10 hours time-in-service (TIS) after July 27, 2009 (the effective date of this AD) or 6 calendar months after July 27, 2009 (the effective date of this AD), whichever occurs first | Follow Hawker Beechcraft Mandatory Service Bulletin SB 28-3967, dated June 2009.
(2) If, as a result of the inspection required by paragraph (e)(1) of this AD, you find any improper installation of the P60/J60 electrical connector, associated wiring, or fuel line, correct the installation of the P60/J60 electrical connector, associated wiring, and fuel line. If, as a result of the inspection required by paragraph (e)(1) of this AD, you find any chafing damage of the electrical wiring or fuel line, replace or repair the damaged parts | Before further flight after the inspection required by paragraph (e)(1) of this AD | Follow Hawker Beechcraft Mandatory Service Bulletin SB 28-3967, dated June 2009.

Alternative Methods of Compliance (AMOCs)

(f) The Manager, Wichita Aircraft Certification Office (ACO), FAA, has the authority to approve AMOCs for this AD, if requested using the procedures found in 14 CFR 39.19. Send information to Attn: Jeff Pretz, Aerospace Engineer, 1801 Airport Road, Room 100, Wichita, Kansas 67209; telephone: (316) 946-4153; fax: (316) 946-4107. Before using any approved AMOC on any airplane to which the AMOC applies, notify your appropriate principal inspector (PI) in the FAA Flight Standards District Office (FSDO), or lacking a PI, your local FSDO.

Material Incorporated by Reference

(g) You must use Hawker Beechcraft Mandatory Service Bulletin SB 28-3967, dated June 2009, to do the actions required by this AD, unless the AD specifies otherwise.

(1) The Director of the Federal Register approved the incorporation by reference of this service information under 5 U.S.C. 552(a) and 1 CFR part 51.

(2) For service information identified in this AD, contact Hawker Beechcraft Corporation, Attn: Piston Technical Support, P.O. Box 85, Wichita, Kansas 67201; telephone: (800) 429-5372; fax: (316) 676-8745; E-mail: tmdc@hawkerbeechcraft.com; Internet: http://www.hawkerbeechcraft.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on July 2, 2009.
Scott A. Horn,
Acting Manager, Small Airplane Directorate, Aircraft Certification Service.

[FR Doc. E9-16383 Filed 7-14-09; 8:45 am]

BILLING CODE 4910-13-P